DEPARTMENT OF TRANSPORTATION

National Highway Traffic Safety Administration

49 CFR Part 541

[Docket No. NHTSA-2008-0049]

RIN 2127-AK31

Federal Motor Vehicle Theft Prevention Standard; Final Listing of 2009 Light Duty Truck Lines Subject to the Requirements of This Standard and Exempted Vehicle Lines for Model Year 2009

Correction

In rule document E8-18890 beginning on page 47847 in the issue of Friday, August 15, 2008, make the following correction:

Appendix A-I to Part 541 [Corrected]

On page 47849, in Appendix A-I to Part 541, in the second column of the table, in the 44th line entry, “Genesis³” should read “Genesis¹”.

[FR Doc. Z8-18890 Filed 8-28-08; 8:45 am]

BILLING CODE 1505-01-D